DEPARTMENT OF HEALTH AND HUMAN SERVICES

National Institutes of Health

Chronic Pain: The Science of Complementary and Integrative Health Approaches

AGENCY: National Institutes of Health, HHS.

ACTION: Notice.

SUMMARY: This symposium on September 11, 2018, sponsored by the National Center for Complementary and Integrative Health, will bring leading researchers to discuss the science and potential uses of complementary and integrative health approaches in treating chronic pain.

DATES: The meeting will be held on September 11, 2018, from 8:30 a.m. to 5:30 p.m.

ADDRESSES: The meeting will be held at the Boston Convention and Exhibition Center, 415 Summer Street, Boston, MA 02210.

FOR FURTHER INFORMATION CONTACT: For information concerning this meeting, see the NCCIH website, https://nccih.nih.gov/chronic-pain-symposium-2018?nav=govd, the 17th World Congress on Pain website, https://www.iaspworldcongressonpain.org/program/current-satellite-symposia/#toggle-id-3, or contact Dr. Wen Chen, Acting Branch Chief and Program Director, Basic and Mechanistic Research, Division of Extramural Research, National Center for Complementary and Integrative Health, 6707 Democracy Boulevard, Suite 401, Bethesda, MD 20892, telephone: 301-451-3989; email: when.chen2@nih.gov.

SUPPLEMENTARY INFORMATION: This symposium, sponsored by the National Center for Complementary and Integrative Health, will bring leading researchers from multiple disciplines to discuss the science and potential uses of complementary and integrative health approaches in treating chronic pain. The symposium will highlight current concerns regarding the opioid epidemic and the potential roles of complementary and integrative health approaches in addressing this crisis. The objectives of the symposia are to: Present the past, present, and future of natural products research and pain management, focusing on our current understanding of the ascending and descending neural mechanisms by which different natural products may contribute to analgesia; ascertain the mechanisms by which a variety of mind and body approaches may modulate pain; and discuss translational potential for complementary and integrative approaches for individual-based chronic pain management.

Interested individuals can register for the symposia at: https://www.iaspworldcongressonpain.org/registration/. Once you have created a free IASP account, you can choose to register for a Satellite Symposium only. Choose the Satellite Symposium “Chronic Pain: The Science of Complementary and Integrative Health Approaches.” The registration fee is $20 for the 1-day symposium.

Dated: August 6, 2018.
David Shurtleff,
Acting Director, National Center for Complementary and Integrative Health, National Institutes of Health.

[FR Doc. 2018-17118 Filed 8-9-18; 8:45 am]

BILLING CODE 4140-01-P